DEPARTMENT OF THE INTERIOR

National Park Service

Delaware Water Gap National Recreation Area Citizen Advisory Commission Meeting

AGENCY: National Park Service; Interior.

ACTION: Notice of meeting.

SUMMARY: This notice announces public meetings of the Delaware Water Gap National Recreation Area Citizen Advisory Commission. Notice of these meetings is required under the Federal Advisory Committee Act (Pub. L. 92-463).

Meeting Date and Time: Saturday, June 1, 2002 at 8 a.m.

Address: Grey Towers, Pinchot Institute, Milford PA 18337.

The agenda will include reports from Citizen Advisory Commission members, specifically approval of minutes from the June 9 and October 11, 2001, and January 26 and April 13, 2002 meetings, election of Commission officers for the 2002-2003 term, and attendance of Commission members. Superintendent William Laitner will give a report on various park issues. The agenda is set up to invite the public to bring issues of interest before the Commission. These issues typically include treatment of historic buildings within the recreation area, monitoring of waste water facilities outside the recreation area but empyting into the Delaware River, and wildlife management issues.

Meeting Date and Time: Saturday, October 5, 2002 at 9 a.m.

Address: Walpack Environmental Education Center, Walpack, New Jersey 07881.

The agenda for this meeting will consist of Commission reports which typically include natural resources, recreation, and historic structures. The Superintendent will provide reports on park issues such as the Tri-State Wastewater Planning project and the New Jersey Swim Beach development. The agenda is set up to invite the public to bring issues of interest before the Commission.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

FOR FURTHER INFORMATION, CONTACT: Superintendent, Delaware Water Gap National Recreation Area, Bushkill, PA 18324, 570-588-2418.

Dated: April 15, 2002.
Doyle W. Nelson,
Superintendent.

[FR Doc. 02-12573 Filed 5-17-02; 8:45 am]

BILLING CODE 4310-70-P